DEPARTMENT OF HEALTH AND HUMAN SERVICES

National Institutes of Health

Notice of Meeting: National Institutes of Health Technology Partnering Showcase—“Innovations in Drug Discovery, Delivery and Diagnostics for Neurodegenerative and Psychiatric Diseases”

AGENCY: National Institutes of Health, Public Health Service, DHHS.

ACTION: Notice.

SUMMARY: The National Institutes of Health (NIH) Technology Partnering Showcase will feature presentations and poster sessions by NIH neuroscience researchers, a panel discussion on how to collaborate with NIH in neuroscience research, and the opportunity to interact with neuroscience investigators working at NIH, including those from the National Institute of Mental Health (NIMH), the National Institute of Neurological Disease and Stroke (NINDS), and the National Institute on Drug Abuse (NIDA). Presentations will be limited to brief summaries of the underlying neuroscience, followed by a description of the partnering opportunity. This will be an excellent opportunity for companies interested in developing products for neurological diseases to come and learn about ways to work with NIH resources and technologies to more rapidly develop new products to diagnose and treat neurodegenerative and psychiatric diseases.

Dates: Thursday, October 7, 2004.

Time: 8 a.m.-1:30 p.m.

ADDRESSES: University System of Maryland Shady Grove Center, 9630 Gudelsky Drive—Building II, Rockville, Maryland 20850.

FOR FURTHER INFORMATION CONTACT: Linda Saffer at 410-715-4175 or lsaffer@marylandtedco.org regarding registration. Complete schedule and registration information is also available at http://www.marylandtedco.org/programs/NIH_overview.html. For information on Neuroscience@NIH, visit http://www.neuroscience.nih.gov.

Dated: September 17, 2004.
Steven M. Ferguson,
Director, Division of Technology Development and Transfer, Office of Technology Transfer, National Institutes of Health.

[FR Doc. 04-21425 Filed 9-23-04; 8:45 am]

BILLING CODE 4140-01-P